DEPARTMENT OF THE INTERIOR

Fish and Wildlife Service

[FWS-R2-ES-2013-N041; FXES11130200000-145-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. Both the Act and the National Environmental Policy Act require that we invite public comment before issuing these permits.

DATES: To ensure consideration, written comments must be received on or before April 25, 2014.

ADDRESSES: Wendy Brown, Chief, Recovery and Restoration Branch, by U.S. mail at Division of Classification and Recovery, U.S. Fish and Wildlife Service, P.O. Box 1306, Albuquerque, NM 87103; or by telephone at 505-248-6920. Please refer to the respective permit number for each application when submitting comments.

FOR FURTHER INFORMATION CONTACT: Susan Jacobsen, Chief, Division of Classification and Restoration, by U.S. mail at P.O. Box 1306, Albuquerque, NM 87103; or by telephone at 505-248-6665.

SUPPLEMENTARY INFORMATION:

Public Availability of Comments

The Act (16 U.S.C. 1531 et seq.) prohibits activities with endangered and threatened species unless a Federal permit allows such activities. Along with our implementing regulations in the Code of Federal Regulations (CFR) at 50 CFR part 17, the Act provides for permits, and requires that we invite public comment before issuing these permits. A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies, and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-813088

Applicant: Bureau of Reclamation, Albuquerque, New Mexico.

Applicant requests a renewal to a current permit for research and recovery purposes to conduct presence/absence surveys of Comanche Springs pupfish (Cyprinodon elegans) and Pecos gambusia (Gambusia nobilis) within Texas, and Rio Grande silvery minnow (Hybognathus amarus) within New Mexico.

Permit TE-207369

Applicant: U.S. Army Garrison-Fort Huachuca, Fort Huachuca, Arizona.

Applicant requests a renewal to a current permit for research and recovery purposes to conduct presence/absence surveys of lesser long-nosed bat (Leptonycteris yerbabuenae), southwestern willow flycatcher (Empidonax traillii extimus), and Sonoran tiger salamander (Ambystoma tigrinum stebbinsi); and to survey for, collect, propagate, and transplant Huachuca water umbel (Lilaeopsis schaffneriana var. recurva) within Arizona.

Permit TE-27791B

Applicant: National Park Service-Montezuma Castle and Tuzigoot Monuments, Campe Verde, Arizona.

Applicant requests a new permit for research and recovery purposes to conduct presence/absence surveys for southwestern willow flycatcher (Empidonax traillii extimus) within Arizona.

Permit TE-160521

Applicant: Tetra Tech, Salt Lake City, Utah.

Applicant requests a renewal to a current permit for research and recovery purposes to conduct presence/absence surveys of southwestern willow flycatcher (Empidonax traillii extimus) within Arizona and Utah.

Permit TE-27797B

Applicant: Robin Laine, Austin, Texas.

Applicant requests a new permit for research and recovery purposes to conduct presence/absence surveys of golden-cheeked warbler (Dendroica chrysoparia) within Texas.

Permit TE-27804B

Applicant: Paige Anderson, Yutan, Nebraska.

Applicant requests a new permit for research and recovery purposes to conduct presence/absence surveys of gray bat (Myotis grisescens), Indiana bat (Myotis sodalis), and Ozark big-eared bat (Corynorhinus townsendii ingens) using mist netting techniques within Oklahoma.

Permit TE-28782B

Applicant: Brian Early, Baton Rouge, Louisiana.

Applicant requests a new permit for research and recovery purposes to conduct presence/absence surveys of American burying beetle (Nicrophorus americanus) within Arkansas, Kansas, Maine, Missouri, Ohio, Oklahoma, and Texas.

Permit TE-88512A

Applicant: New Mexico Department of Transportation, Santa Fe, New Mexico.

Applicant requests an amendment to a current permit for research and recovery purposes to conduct presence/absence surveys of Jemez Mountain salamander (Plethodon neomexicanus) within New Mexico.

Permit TE-07308A

Applicant: Debbie Buecher, Tucson, Arizona.

Applicant requests a renewal to a current permit for research and recovery purposes to conduct presence/absence surveys of lesser long-nosed bat (Leptonycteris yerbabuenae) in Arizona, and Mexican long-nosed bat (Leptonycteris nivalis) within New Mexico.

Permit TE-28787B

Applicant: Cindy Lawrence, Durango, Colorado.

Applicant requests a renewal to a current permit for research and recovery purposes to conduct presence/absence surveys of southwestern willow flycatcher (Empidonax traillii extimus) within New Mexico.

Permit TE-039466

Applicant: U.S. Geological Survey, Idaho Cooperative Fish and Wildlife Research Unit, Moscow, Idaho.

Applicant requests a renewal to a current permit for research and recovery purposes to conduct presence/absence surveys of Yuma clapper rail (Rallus longirostris yumanensis) in Arizona and California, and light-footed clapper rail (Rallus longirostris levipes) and California clapper rail (Rallus longirostris obsoletus) within California.

Permit TE-35437A

Applicant: U.S. Army Corps of Engineers-Tulsa District, Tulsa, Oklahoma.

Applicant requests a renewal to a current permit for research and recovery purposes to conduct presence/absence surveys of the following species within Oklahoma, Kansas, and Texas:

• American burying beetle (Nicrophorus americanus)

• Gray bat (Myotis grisescens)

• Indiana bat (Myotis sodalis)

• Interior least tern (Sterna antillarum)

• Leopard darter (Percina pantherina)

• Neosho madtom (Noturus placidus)

• Ouachita pocketbook (Arkansia wheeleri)

• Ozark big-eared bat (Corynorhinus townsendii ingens)

• Winged mapleleaf (Quadrula fragosa)

Permit TE-837751

Applicant: Bureau of Reclamation, Phoenix, Arizona.

Applicant requests an amendment to a current permit for research and recovery purposes to conduct presence/absence surveys of Zuni bluehead sucker (Catostomus discobolus yarrow) within Arizona.

Permit TE-048806

Applicant: U.S. Fish and Wildlife Service-Aransas National Wildlife Refuge, Austwell, Texas.

Applicant requests a renewal to a current permit for research and recovery purposes to conduct the following activities for whooping crane (Grus americanus) nationwide: To conduct presence/absence surveys; to process and ship parts thereof; to raise, breed, display, and administer health care to captive birds at approved facilities; to ship live wild-captured or captive-reared whooping cranes and eggs to various sites for research, reintroductions, or rehabilitation or treatment of sick or injured individuals, or among captive sites for avicultural management; to capture, provide health care, put on tracking devices and/or identification bands, and do health screens, including blood collection; to re-introduce captive whooping cranes into central Florida, Louisiana, Wisconsin, or other States where whooping cranes have been designated experimental/nonessential and carry out research and monitoring associated with those reintroductions; and to carry out scientific research and management directly related to whooping crane recovery that is approved by the USFWS's Whooping Crane Coordinator.

Permit TE-821577

Applicant: Arizona Game and Fish Department, Phoenix, Arizona.

Applicant requests a renewal to a current permit for research and recovery purposes to conduct presence/absence surveys of the following species within Arizona:

• Black-footed ferret (Mustela nigripes)

• Bonytail (Gila elegans)

• California condor (Gymnogyps californianus)

• Colorado pikeminnow (Ptychocheilus lucius)

• Desert pupfish (Cyprinodon macularius macularius)

• Gila chub (Gila intermedia)

• Gila topminnow (Poeciliopsis occidentalis occidentalis)

• Hualapai Mexican vole (Microtus montanus [=mexicanus] hualpaiensis)

• Humpback chub (Gila cypha)

• Kanab ambersnail (Oxyloma haydeni kanabensis)

• Lesser long-nosed bat (Leptonycteris yerbabuenae)

• Loach minnow (Tiaroga cobitis)

• Masked bobwhite (Colinus virginianus ridgwayi)

• Mexican long-nosed bat (Leptonycteris nivalis)

• Mount Graham red squirrel (Tamiasciurus hudsonicus grahamensis)

• Razorback sucker (Xyrauchen texanus)

• Rio Sonoyta (Quitobaquito) pupfish (Cyprinodon macularius eremus)

• Sonoran pronghorn (Antilocapra americana sonoriensis)

• Sonoran tiger salamander (Ambystoma tigrinum [=mavortium] stebbinsi)

• Spikedace (Meda fulgida)

• Virgin River chub (Gila seminuda)

• Woundfin (Plagopterus argentissimus)

• Yaqui chub (Gila purpurea)

• Yaqui topminnow (Poeciliopsis occidentalis sonoriensis)

• Yuma clapper rail (Rallus longirostris yumanensis)

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: March 10, 2014.
Joy E. Nicholopoulos,
Acting Regional Director, Southwest Region.

[FR Doc. 2014-06633 Filed 3-25-14; 8:45 am]

BILLING CODE 4310-55-P